DEPARTMENT OF AGRICULTURE

Rural Utilities Service

East Kentucky Power Cooperative; Notice of Finding of No Significant Impact

AGENCY: Rural Utilities Service, USDA.

ACTION: Notice of finding of no significant impact.

Notice is hereby given that the Rural Utilities Service (RUS) has made a finding of no significant impact with respect to a request from East Kentucky Power Cooperative for financing assistance from RUS to finance the construction of the J.K. Smith Unit 5 Combustion Turbine and a 12 mile, 138 kV electric transmission line.

FOR FURTHER INFORMATION CONTACT: Bob Quigel, Environmental Protection Specialist, Engineering and Environmental Staff, RUS, Stop 1571, 1400 Independence Avenue, SW., Washington, DC 20250-1571, telephone (202) 720-0468, e-mail at bquigel@rus.usda.gov.

SUPPLEMENTARY INFORMATION: The J.K. Smith Unit 5 Combustion Turbine will be installed adjacent to existing combustion turbines located at East Kentucky Power Cooperative's J.K. Smith Combustion Turbine Site located in Clark County, Kentucky, approximately 9 miles southeast of Winchester on Kentucky Highway 89. The combustion turbine will be fired by natural gas or #2 fuel oil. Natural gas will be supplied by an existing natural gas pipeline on site. Fuel oil will be trucked to the site and stored in a 4 million gallon storage tank located on the site. Twelve miles of 138 kV electric transmission line will need to be constructed to tie the power output of Unit 5 to East Kentucky Power Cooperative's electric transmission gird. The transmission line will begin at the J.K. Smith Combustion Turbine Site and traverse in a southerly direction into Madison County, Kentucky.

Copies of the Finding of No Significant Impact are available from RUS at the address provided herein or from Jeff Hohman, East Kentucky Power Cooperative, PO Box 707, Winchester, Kentucky 40391, telephone (606) 744-4812.

Dated: February 20, 2001.
Blaine D. Stockton,
Assistant Administrator, Electric Program.

[FR Doc. 01-6075 Filed 3-9-01; 8:45 am]

BILLING CODE 3410-15-P